DEPARTMENT OF COMMERCE

National Oceanic and Atmospheric Administration

[RTID 0648-XA299]

Taking and Importing of Marine Mammals

AGENCY: National Marine Fisheries Service (NMFS), National Oceanic and Atmospheric Administration (NOAA), Commerce.

ACTION: Notice; affirmative finding annual renewals for Colombia, El Salvador, and Peru.

SUMMARY: The NMFS Assistant Administrator (Assistant Administrator) has completed an affirmative finding annual renewal for the Governments of Colombia, El Salvador, and Peru (referred to hereafter as “The Nations”) under the Marine Mammal Protection Act (MMPA). These affirmative findings will continue to allow the importation into the United States of yellowfin tuna and yellowfin tuna products harvested in the eastern tropical Pacific Ocean (ETP) for 1 year in compliance with the Agreement on the International Dolphin Conservation Program (AIDCP) by purse seine vessels operating under The Nations' jurisdiction or exported from The Nations. NMFS bases the affirmative finding annual renewals on reviews of documentary evidence submitted by the Governments of The Nations and of information obtained from the Inter-American Tropical Tuna Commission (IATTC).

DATES: These affirmative finding annual renewals are effective for the 1-year period of April 1, 2020, through March 31, 2021.

FOR FURTHER INFORMATION CONTACT: Justin Greenman, West Coast Region, National Marine Fisheries Service, 501 W. Ocean Blvd., Suite 4200, Long Beach, CA 90802. Phone: 562-980-3264. Email: justin.greenman@noaa.gov.

SUPPLEMENTARY INFORMATION: The MMPA, 16 U.S.C. 1361 et seq., allows for importation into the United States of yellowfin tuna harvested by purse seine vessels in the ETP from a nation with jurisdiction over purse seine vessels with carrying capacity greater than 400 short tons that harvest tuna in the ETP only if the nation has an “affirmative finding” issued by the NMFS Assistant Administrator. See Section 101(a)(2)(B) of the MMPA, 16 U.S.C. 1371(a)(2)(B); see also 50 CFR 216.24(f)(6)(i). If requested by the government of such a nation, the Assistant Administrator will determine whether to make an affirmative finding based upon documentary evidence provided by the government, the IATTC, or the Department of State.

The affirmative finding process requires that the harvesting nation is meeting its obligations under the AIDCP and its obligations of membership in the IATTC. Every 5 years, the government of the harvesting nation must request a new affirmative finding and submit the required documentary evidence directly to the Assistant Administrator. On an annual basis, NMFS must determine whether the harvesting nation continues to meet the requirements of their 5-year affirmative finding. NMFS does this by reviewing the documentary evidence from the last year. A nation may provide information related to compliance with AIDCP and IATTC measures directly to NMFS on an annual basis or may authorize the IATTC to release the information to NMFS to annually renew an affirmative finding determination without an application from the harvesting nation.

An affirmative finding will be terminated, in consultation with the Secretary of State, if the Assistant Administrator determines that the requirements of 50 CFR 216.24(f) are no longer being met or that a nation is consistently failing to take enforcement actions on violations, thereby diminishing the effectiveness of the AIDCP.

As a part of the affirmative finding process set forth in 50 CFR 216.24(f)(8), for this annual renewal, the Assistant Administrator considered documentary evidence submitted by the Governments of The Nations and obtained from the IATTC and has determined that The Nations have met the MMPA's requirements to receive affirmative finding annual renewals.

After consultation with the Department of State, the Assistant Administrator issued affirmative finding annual renewals to The Nations, allowing the continued importation into the United States of yellowfin tuna and products derived from yellowfin tuna harvested in the ETP by purse seine vessels operating under The Nations' jurisdiction or exported from The Nations. Issuance of affirmative finding annual renewals for The Nations does not affect implementation of an intermediary nation embargo under 50 CFR 216.24(f)(9), which applies to exports from a nation that exports to the United States yellowfin tuna or yellowfin tuna products that was subject to a ban on importation into the United States under section 101(a)(2)(B) of the MMPA, 16 U.S.C. 1371(a)(2)(B).

These affirmative finding annual renewals for The Nations are for the 1-year period of April 1, 2020, through March 31, 2021. The Nations' individual 5-year affirmative findings, which have varying start and end dates, remain valid. Colombia's 5-year affirmative finding will remain valid through March 31, 2024, El Salvador's 5-year affirmative finding will remain valid through March 31, 2023, and Peru's 5-year affirmative finding will remain valid through March 31, 2022, subject to subsequent annual reviews by NMFS.

Dated: August 12, 2020.
Chris Oliver,
Assistant Administrator for Fisheries, National Marine Fisheries Service.

[FR Doc. 2020-17934 Filed 8-14-20; 8:45 am]

BILLING CODE 3510-22-P